RECOVERY ACCOUNTABILITY AND TRANSPARENCY BOARD

Proposed Information Collection Activities

ACTION: Notice and request for comments.

SUMMARY: The Recovery Accountability and Transparency Board (Board) invites comments on the proposed information collection request as required by the Paperwork Reduction Act of 1995.

DATES: Interested persons are invited to submit comments on or before October 30, 2009.

ADDRESSES: Send comments to Jennifer Dure, Office of General Counsel, Recovery Accountability and Transparency Board, 1717 Pennsylvania Avenue, NW., Suite 700, Washington, DC 20006. Alternatively, you can e-mail comments to comments@ratb.gov. Please be sure to identify the title of the collection in the subject line.

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to provide 60 days' notice to the public for comment on information collection activities before seeking approval of such activities by the Office of Management and Budget (OMB). Specifically, the Board invites interested respondents to comment on the following summary of proposed information collection activities regarding (i) Whether the information collection activities are necessary for the Board to properly execute its functions; (ii) the accuracy of the Board's estimates of the burden of the information collection activities; (iii) ways for the Board to enhance the quality, utility, and clarity of the information being collected; and (iv) ways for the Board to minimize the burden of information collection activities on the public.

Below is a brief summary of the proposed information collection:

Title of Collection: FederalReporting.gov Recipient Registration System.

OMB Control No.: 0430-0002.

Description: Section 1512 of the American Recovery and Reinvestment Act of 2009, Public Law 111-5, 123 Stat. 115 (Recovery Act), requires recipients of Recovery Act funds to report on the use of those funds. These reports are to be submitted to FederalReporting.gov, and certain information from these reports will later be posted to the publically available Web site Recovery.gov.

The FederalReporting.gov Recipient Registration System (FRRS) was developed to protect the Board and FederalReporting.gov users from individuals seeking to gain unauthorized access to user accounts on FederalReporting.gov. FRRS is used for the purpose of verifying the identity of the user; allowing users to establish an account on FederalReporting.gov; providing users access to their FederalReporting.gov account for reporting data; allowing users to customize, update, or terminate their accounts with FederalReporting.gov; renewing or revoking a user's account on FederalReporting.gov, thereby protecting FederalReporting.gov and FederalReporting.gov users from potential harm caused by individuals with malicious intentions gaining unauthorized access to the system.

To assist in this goal, FRRS will collect a registrant's name, email address, telephone number and extension, three security questions and answers, and, by way of a DUNS number, organization information. The person registering for FederalReporting.gov will generate a self-assigned password that will be stored on the FRRS, but will only be accessible to the registering individual.

Affected Public: Private sector and state, local, and tribal governments.

Total Estimated Number of Respondents: 150,961.

Frequency of Responses: Once.

Total Estimated Annual Burden Hours: 12,558.

Ivan J. Flores,
Paralegal Specialist, Recovery Accountability and Transparency Board.

[FR Doc. E9-20931 Filed 8-28-09; 8:45 am]

BILLING CODE 6820-GA-P